DEPARTMENT OF HEALTH AND HUMAN SERVICES

Centers for Medicare & Medicaid Services

Performance Review Board Membership

AGENCY: Centers for Medicare & Medicaid Services

ACTION: Notice of Performance Review Board Membership

SUMMARY: In accordance with regulations prescribed by the Office of Personnel Management, one or more Senior Executive Service (SES) Performance Review Boards (PRBs). The PRB shall review and evaluate the initial summary rating of a senior executive's performance, the executive's response, and the higher-level official's comments on the initial summary rating. In addition, the PRB will review and recommend executive performance bonuses and pay increases.

FOR FURTHER INFORMATION CONTACT: Kathy Vaughn, 410-786-1050 or katherine.vaughn@cms.hhs.gov

SUPPLEMENTARY INFORMATION: 5 U.S.C. 4314(c)(4) requires the appointment of board members to be published in the Federal Register. The following persons comprise a standing roster to serve as members of the SES PRB for the Centers for Medicare & Medicaid Services:

Jennifer Main, Chief Operating Officer (serves as the Chair)

Kimberly Brandt, Principal Deputy Administrator for Policy and Operations

Tia Butler, Director, Office of Human Capital

Nancy O'Connor, Director, Office of Program Operations and Local Engagement

Randy Pate, Deputy Administrator and Director, Center for Consumer Information and Insurance Oversight

Elizabeth Richter, Deputy Center Director, Center for Medicare

Karen Shields, Deputy Center Director, Center for Medicaid and CHIP Services

Arrah Tabe-Bedward, Deputy Director, Center for Medicare and Medicaid Innovation

Jeffrey Wu, Deputy Director for Operations, Center for Consumer Information and Insurance Oversight

The Chief Operating Officer of the Centers for Medicare & Medicaid Services (CMS), Jennifer Main, having reviewed and approved this document, authorizes Lynette Wilson, who is the Federal Register Liaison, to electronically sign this document for purposes of publication in the Federal Register.

Dated: October 23, 2020.
Lynette Wilson,
Federal Register Liaison, Department of Health and Human Services.

[FR Doc. 2020-23891 Filed 10-27-20; 8:45 am]

BILLING CODE 4120-01-P